EXPORT-IMPORT BANK

Sunshine Act Meetings

Notice of an Open Meeting of the Board of Directors of the Export-Import Bank of the United States.

TIME AND DATE: Thursday, May 9, 2024, at 9:30 a.m.

PLACE: The meeting will be held via teleconference.

STATUS: The meeting will be open to public observation.

MATTERS TO BE CONSIDERED: 1. Policy Analysis and International Relations, Policy Modification to Allow 5-Percent Cash Payment, Decision Required: Approval, Condren/Deatherage.

CONTACT PERSON FOR MORE INFORMATION: Deidre Hodge (202-509-4195). Members of the public who wish to attend the meeting may do so via teleconference and must register using the link below by noon Wednesday May 8, 2024. After completing the registration, individuals will receive a confirmation email containing information about joining the webinar. https://teams.microsoft.com/registration/PAFTuZHHMk2Zb1GDkIVFJw,6WNwVJPkak2bfbS-d7T7kg,AJWdGUqHzkqGwTJXL3Ze2Q,hbG19ccm2Uq-ha6evS8ufg,vBvvqucJEU-lya4oxAngTA,qZDDvfJADkOy5eiWJh-7uw?mode=read&tenantId=b953013c-c791-4d32-996f-518390854527.

Deidre Hodge,
Assistant Corporate Secretary.

[FR Doc. 2024-09524 Filed 4-29-24; 11:15 am]

BILLING CODE 6690-01-P